DEPARTMENT OF COMMERCE

National Institute of Standards and Technology

Notice of Inventions Available for Licensing

AGENCY: National Institute of Standards and Technology, Commerce.

ACTION: Notice of inventions available for licensing.

SUMMARY: The inventions listed below are owned in whole or in part by the U.S. Government, as represented by the Department of Commerce. The Department of Commerce's interest in the inventions is available for licensing in accordance with 35 U.S.C. 207 and 37 CFR part 404 to achieve expeditious commercialization of results of federally funded research and development.

FOR FURTHER INFORMATION CONTACT: Technical and licensing information on these inventions may be obtained by writing to: National Institute of Standards and Technology, Office of Technology Partnerships, Attn: Mary Clague, Building 820, Room 213, Gaithersburg, MD 20899. Information is also available via telephone: 301-975-4188, e-mail: mclague@nist.gov, or fax: 301-869-2751. Any request for information should include the NIST Docket number and title for the relevant invention as indicated below.

SUPPLEMENTARY INFORMATION: NIST may enter into a Cooperative Research and Development Agreement (“CRADA”) with the licensee to perform further research on the inventions for purposes of commercialization. The inventions available for licensing are:

[Docket No.: 97-026US]

Title: Method and apparatus for diffraction measurement using a scanning x-ray source.

Abstract: The invention is jointly owned by the U.S. Government, as represented by the Secretary of Commerce, and Digiray Corporation. This invention is available for non-exclusive licensing. The present invention relates to x-ray diffraction measurement by using moving x-ray source x-ray diffraction. The invention comprises a raster-scanned x-ray source, a specimen, a collimator, and a detector. The x-ray source is electronically scanned which allows a complete image of the x-ray diffraction characteristics of the specimen to be produced. The specimen is placed remote from the x-ray source and the detector. The collimator is located directly in front of the detector. The x-rays are diffracted by the specimen at certain angles, which cause them to travel through the collimator and to the detector. The detector may be placed in any radial location relative to the specimen in order to take the necessary measurements. The detector can detect the intensity and/or the wavelength of the diffracted x-rays. All information needed to solve the Bragg equation as well as the Laue equations is available. The x-ray source may be scanned electronically or mechanically. The present invention is used to perform texture analysis and phase identification.

[Docket No.: 99-021D ]

Title: Apparatus and method for refreshable tactile display.

Abstract: The invention is owned by the U.S. government, as represented by the Secretary of Commerce. This invention is available for exclusive or non-exclusive licensing. The invention utilizes a rotating-wheel and is designed to be mechanically simpler than existing refreshable tactile display devices, while providing much of their functionality as well as additional features. It is believed that this design will allow for greatly lowered cost and improved reliability in comparison to existing systems.

Dated: August 1, 2002.
Karen H. Brown,
Deputy Director.

[FR Doc. 02-20100 Filed 8-7-02; 8:45 am]

BILLING CODE 3510-13-P